DEPARTMENT OF ENERGY

Federal Energy Regulatory Commission

[Project No. 1984-083]

Wisconsin Department of Natural Resources v. Wisconsin River Power Company; Notice of Complaint

July 30, 2002.

Take notice that on July 8, 2002, the State of Wisconsin Department of Natural Resources (WDNR) filed a complaint pursuant to Rule 206 of the Commission's Rules of Practice and Procedure, 18 CFR 385.206 (2002), and Part I of the Federal Power Act, 16 U.S.C. 791, et seq., against Wisconsin River Power Company (WRPC), licensee of the Petenwell and Castle Rock Project No. 1984, located on the Wisconsin River in Wood, Juneau, and Adams Counties, Wisconsin. WDNR alleges that WRPC has violated Articles 410 and 411 of its project license by marketing and selling licensee-owned lands. On July 18, 2002, the licensee filed an answer to WDNR's complaint. Copies of the complaint are on file with the Commission and are available for public inspection in the Commission's Public Reference Room. The complaint may also be viewed on the Internet at http://www.ferc.gov using the “RIMS” link, select “Docket#” and follow the instructions (call 202-208-2222 for assistance).

Any person desiring to be heard or to protest this filing should file comments, a motion to intervene, or a protest with the Federal Energy Regulatory Commission, 888 First Street, NE., Washington, DC 20426, in accordance with Rules 211 and 214 of the Commission's Rules of Practice and Procedure (18 CFR 385.211 and 385.214). The licensee's answer to the complaint and all comments, motions, or protests must be filed on or before August 19, 2002. Any entity wishing to become a party must file a motion to intervene. The answer to the complaint, comments, motions to intervene, and protests may be filed electronically via the internet in lieu of paper. See 18 CFR 385.2001(a)(1)(ii), and the instructions on the Commission's Web site under the “e-filing” link. The Commission strongly encourages electronic filings.

Linwood A. Watson, Jr.,
Deputy Secretary.

[FR Doc. 02-19648 Filed 8-2-02; 8:45 am]

BILLING CODE 6717-01-P